DEPARTMENT OF AGRICULTURE

Submission for OMB Review; Comment Request

December 5, 2006.

The Department of Agriculture has submitted the following information collection requirement(s) to OMB for review and clearance under the Paperwork Reduction Act of 1995, Pub. L. 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB Control Number.

Forest Service

Title: Visitor Permit and Visitor Registration Card.

OMB Control Number: 0596-0019.

Summary of Collection: The Organic Administration Act (30 stat. 11), the Wilderness Act (78 stat. 890), the Wild and Scenic River Act (82 stat. 906) and Executive Order 11644, all authorize the Forest Service (FS) to manage the forests to benefit both land and people. The information collected from the Visitor's Permit Form (FS-2300-30) and Visitor Registration Card (FS-2300-32) help the Forest Service ensure that visitors' use of National Forest System lands is in the public interest and compatible with the mission of the agency. The information is collected from National Forest System land visitors, who will be asked to describe their intended use of the land and the estimated duration of their visit.

Need and Use of the Information: FS will collect the visitor's name, address, area to be visited, date of visit, length of stay, method of travel, number of people, and number of pack and saddle stock. The permit and registration card allows managers to identify heavily used areas to prepare restoration and monitoring plans that reflect where use is occurring, and in extreme cases, to develop plans to move forest users to lesser-impacted areas. The completed forms also provide managers with information useful in locating lost forest visitors. Not being able to use these forms could result in overuse and site deterioration in environmentally sensitive areas.

Description of Respondents: Individuals or households; business or other for-profit; not-for profit institutions.

Number of Respondents: 368,400.

Frequency of Responses: Reporting: Other (per visit).

Total Burden Hours: 19,320.

Forest Service

Title: Youth Conservation Corps Application & Medical History Forms.

OMB Control Number: 0596-0084.

Summary of Collection: Under Pub. L. 93-408, the Youth Conservation Corps Act (YCC), the Forest Service (U.S. Department of Agriculture), and agencies within the Department of the Interior (the Fish and Wildlife Service, National Park Service, and Bureau of Land Management) cooperate to provide seasonal employment for eligible youth 15 to 18 years old.

Need and Use of the Information: Youth, ages 15-18, who seek training and employment with participating agencies through the YCC must complete an application form (FS-1800-18) and once selected for employment must complete a medical history form (FS-1800-3). The applicant's parents or guardian must sign both forms. The application form is used in the random selection process and the medical history form provides information needed to determine certification of suitability, any special medical or medication needs, and a file record for the Federal Government and participants.

If these forms were not used, the Federal Government's ability to oversee the Youth Conservation Corps program would be greatly impaired. The organizational and liability issues that would result from inability to collect the information needed to manage the program would be virtually insurmountable.

Description of Respondents: Individuals or households.

Number of Respondents: 20,000.

Frequency of Responses: Annually.

Total Burden Hours: 2,267.

Forest Service

Title: Agreement to Initiate (ATI) and Exchange Agreement (EA).

OMB Control Number: 0596-0105.

Summary of Collection: Land exchanges are discretionary, voluntary real estate transactions between the Secretary of Agriculture (acting by and through the Forest Service) and a non-Federal exchange party (or parties). Land exchanges can be initiated by a non-Federal party (or parties), and agent of a landowners, a broker, a third party, or a non-Federal public agency. Each land exchange requires preparation of an Agreement to Initiate, as required by Title 36 Code of Federal Regulations (CFR), part 254, subpart C, section 254.4—Agreement to Initiate and Exchange. As the exchange proposal develops, the exchange parties may enter into a binding Exchange Agreement, pursuant to Title 36 CFR part 254, subpart A, section 254.14—Exchange Agreement.

Need and Use of the Information: The Agreement to Initiate document specifies the preliminary and on-biding intentions of the non-Federal land exchange party and the Forest Service in pursuing a land exchange. The Agreement to Initiate contains information such as the description of properties considered for exchange, an implementation schedule of action items, identification of the party responsible for each action item, and target dates for completion of action items.

The Exchange Agreement documents the conditions necessary to complete the exchange. It contains information identifying parties, description of lands and interests to be exchanged, identification of all reserved and outstanding interests, and all other terms and conditions necessary to complete the exchange.

Description of Respondents: Business or other for-profit; individuals or households; State, local or tribal government.

Number of Respondents: 120.

Frequency of Responses: Reporting: On occasion.

Total Burden Hours: 120.

Forest Service

Title: Objection to New Land Management Plans, Plan Amendments, and Plan Revisions.

OMB Control Number: 0596-0158.

Summary of Collection: The process for submitting objections to new land management plans, plan amendments, and plan revisions is set forth in Title 36 CFR 219.13. An objector must provide their name, mailing address, telephone number, and identify the specific proposed plan, amendment, or revision that is the subject of the objection. This is the minimum information needed for a citizen or organization to explain the nature of and rational for objections to new land management plans, plan amendments, and plan revisions.

This information must accompany a concise statement explaining how the environmental disclosure documents, if any, and proposed plan, amendment, or revision are inconsistent with law, regulation, Executive Order, or policy and any recommendations for change. The Reviewing Officer then reviews the objection(s) and relevant information and responds to the objector(s) in writing.

Need and Use of the Information: The information collected (objections to new land management plans, plan amendments, and plan revisions) is analyzed and responded to by a Forest Service official. At times, this information is used to modify land and resource management planning decisions. Forest supervisors and regional forests that make decisions on land and resource management planning also use the information. Without this information, the agency's decision-making will suffer from a reduction in public input and agency relationships with the public will deteriorate.

Description of Respondents: Individuals or households; business or other for-profit; not-for-profit institutions; State, local or tribal government.

Number of Respondents: 1,210.

Frequency of Responses: Reporting: Other (once).

Total Burden Hours: 1,210.

Forest Service

Title: Economic, Social, and Cultural Aspects of Livestock Ranching on the Santa Fe and Carson National Forests.

OMB Control Number: 0596-0171.

Summary of Collection: Management of federal lands is hampered in many cases because land managing agencies lack sufficient information to understand and monitor socio-cultural values and changing attitude toward land and resource use. The lack of up-to-date information impedes efforts of the Forest Service (FS) to work with livestock ranchers who graze their cattle under permit on FS managed land (permittees). Cultural differences and historic problems over land use contribute to disagreements and misunderstanding between the permittees and federal land managers. Information on the economic, social, and cultural contributions of livestock ownership to federal permittees is of interest to land managers, policy makers, social scientists, the general public, and the permittees themselves. FS will use a questionnaire to collect information from livestock permittees from the Santa Fe and Carson National Forest.

Need and Use of the Information: FS will collect data on economic, social, and cultural contributions of livestock ownership to the permittees of northern New Mexico. The information will help FS personnel manage the land more effectively and work more cooperatively with the permittees by increasing understanding of the local culture and the role of livestock ownership in that culture. If the data is not collected, grazing allotment plans and forest plan revisions will not be based on the most current and appropriate socio-cultural and economic information.

Description of Respondents: Individuals or households; farms; business or other for-profit.

Number of Respondents: 150.

Frequency of Responses: Reporting: On occasion.

Total Burden Hours: 225.

Charlene Parker,
Departmental Information Collection Clearance Officer.

[FR Doc. E6-20947 Filed 12-8-06; 8:45 am]

BILLING CODE 3410-11-P